ENVIRONMENTAL PROTECTION AGENCY

[OPP-66298; FRL-6823-9]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by September 3, 2002 unless indicated otherwise, orders will be issued canceling all of these registrations..

FOR FURTHER INFORMATION CONTACT: By mail: James A. Hollins, Information Resources Services Division (7205C), Office of Pesticide Programs, Environmental Protection Agency, 1200 Pennsylvania Ave., NW., Washington, DC 20460; telephone number: (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information, Including Copies of this Document and Other Related Documents?

Electronically. You may obtain electronic copies of this document, and certain other related documents that might be available electronically, from the EPA Internet Home Page at http://www.epa.gov. To access this document, on the Home Page select “Laws and Regulations,”“ Regulations and Proposed Rules,” and then look up the entry for this document under the “Federal Register—Environmental Documents.” You can also go directly to the Federal Register listings at http://www.epa.gov/fedrgstr.

II. What Action is the Agency Taking?

This notice announces receipt by the Agency of applications from registrants to cancel 69 pesticide products registered under section 3 or 24(c) of FIFRA. These registrations are listed in sequence by registration number (or company number and 24(c) number) in the following Table 1:

Table 1.—Registrations With Pending Requests for Cancellation
Registration no. | Product Name | Chemical Name
000070-00224 | Rigo Livestock Dust | 2-Chloro-1-(2,4,5-trichlorophenyl)vinyl dimethyl phosphate
000239-02423 | Ortho Lawn Insect Spray | O,O-Diethyl O-(3,5,6-trichloro-2-pyridyl) phosphorothioate
000239-02490 | Ortho Home Pest Insect Control | O,O-Diethyl O-(3,5,6-trichloro-2-pyridyl) phosphorothioate
000239-02513 | Ortho-Klor Soil Insect and Termite Killer | O,O-Diethyl O-(3,5,6-trichloro-2-pyridyl) phosphorothioate
000239-02517 | Ortho-Klor Indoor & Outdoor Insect Killer | O,O-Diethyl O-(3,5,6-trichloro-2-pyridyl) phosphorothioate
000239-02520 | Ortho Mole Cricket Bait Formula II | O,O-Diethyl O-(3,5,6-trichloro-2-pyridyl) phosphorothioate
000239-02521 | Ortho Mole Cricket Bait Formula III | O,O-Diethyl O-(3,5,6-trichloro-2-pyridyl) phosphorothioate
000239-02570 | Ortho-Klor 1% Dursban Lawn & Soil Granules | O,O-Diethyl O-(3,5,6-trichloro-2-pyridyl) phosphorothioate
000239-02633 | Ortho Dursban Lawn Insect Formula II | O,O-Diethyl O-(3,5,6-trichloro-2-pyridyl) phosphorothioate
000239-02635 | Ortho Multipurpose Borer & Insect Spray | O,O-Diethyl O-(3,5,6-trichloro-2-pyridyl) phosphorothioate
000241 NJ-94-0004 | Abate 4E Insecticide | Phosphorothioic acid, O,O'-(thiodi-4,1-phenylene) O,O,O',O'-tetramethyl ester
000241 NJ-94-0005 | Abate 5-G Insecticide | Phosphorothioic acid, O,O'-(thiodi-4,1-phenylene) O,O,O',O'-tetramethyl ester
000264-00584 | Sedagri Trifluralin 480 | Trifluralin ( a,a,a-trifluro-2,6-dinitro-N,N-dipropyl-p-toluidine ) (Note: a =
000279 FL-77-0039 | Niagara Ethion 4 Miscible Miticide Insecticide | O,O,O',O'-Tetraethyl S,S'-methylene bis(phosphorodithioate)
000279 LA-95-0014 | First Line (Sulfluramid) Termite Bait | 1-Octanesulfonamide, N-ethyl-1,1,2,2,3,3,4,4,5,5,6,6,7,7,8,8,8-heptadecafluoro-
000279 LA-98-0010 | Firstline GT Plus Termite Bait Station | 1-Octanesulfonamide, N-ethyl-1,1,2,2,3,3,4,4,5,5,6,6,7,7,8,8,8-heptadecafluoro-
000432-00895 | Chipco Mocap Brand 10G GC | O-Ethyl S,S-dipropyl phosphorodithioate
000538-00087 | Scotts Turf Builder with Halts | Dimethyl tetrachloroterephthalate
000538-00128 | Scotts Vegetable Garden Weed Preventer | Dimethyl tetrachloroterephthalate
000538-00235 | Flower and Garden Weed Preventer | Dimethyl tetrachloroterephthalate
000541-00168 | Galahad Neutral Detergent-Germicide Hospital Grade | 4-tert-Amylphenol
|  | o-Phenylphenol
000541-00265 | Puritan #6790 Detergent-Germicide | 4-tert-Amylphenol
|  | o-Phenylphenol
000655-00019 | Prentox Warfarin Concentrate Rax Powder | 3-(alpha-Acetonylbenzyl)-4-hydroxycoumarin
000655-00457 | Prentox Diazinon 4E Insecticide | O,O-Diethyl O-(2-isopropyl-6-methyl-4-pyrimidinyl) phosphorothioate
000655-00519 | Prentox Liquid Household Spray #1 | O,O-Diethyl O-(2-isopropyl-6-methyl-4-pyrimidinyl) phosphorothioate
|  | (Butylcarbityl)(6-propylpiperonyl) ether 80% and related compounds 20%
|  | Pyrethrins
002792-00041 | Pennwalt Decco 273 Aerosol Potato Sprout Inhibitor | Isopropyl N-(3-chlorophenyl)carbamate
002792 WA-95-0039 | Deccoquin 305 Concentrate | 6-Ethoxy-1,2-dihydro-2,2,4-trimethyl quinoline
004822-00356 | Raid Max Ant Bait | 1-Octanesulfonamide, N-ethyl-1,1,2,2,3,3,4,4,5,5,6,6,7,7,8,8,8-heptadecafluoro-
004822-00508 | Raid Double Control Ant Baits | 1-Octanesulfonamide, N-ethyl-1,1,2,2,3,3,4,4,5,5,6,6,7,7,8,8,8-heptadecafluoro-
005481-00054 | Alco Cygon 2 E | O,O-Dimethyl S-((methylcarbamoyl)methyl) phosphorodithioate
005481 WA-89-0019 | Dibrom 8 Emulsive | 1,2-Dibromo-2,2-dichloroethyl dimethyl phosphate
007401-00024 | Ferti-Lome Spring Crabgrass Preventer | Dimethyl tetrachloroterephthalate
007401-00067 | Ferti-Lome Rose Spray containing Diazinon & Daconil | O,O-Diethyl O-(2-isopropyl-6-methyl-4-pyrimidinyl) phosphorothioate
|  | Tetrachloroisophthalonitrile
007401-00076 | Ferti-Lome Crabgrass and Weed Preventer | Dimethyl tetrachloroterephthalate
007401-00140 | Ferti-Lome Year-Around Grabgrass and Weed Preventer | Dimethyl tetrachloroterephthalate
007401-00385 | Ferti-Lome Weed & Grass Preventer | Dimethyl tetrachloroterephthalate
008329-00058 | Abate 2-CG Insecticide | Phosphorothioic acid, O,O'-(thiodi-4,1-phenylene) O,O,O',O'-tetramethyl ester
008329-00059 | Abate 5-G Insecticide | Phosphorothioic acid, O,O'-(thiodi-4,1-phenylene) O,O,O',O'-tetramethyl ester
008329 NJ-99-0008 | Abate 5-G Insecticide | Phosphorothioic acid, O,O'-(thiodi-4,1-phenylene) O,O,O',O'-tetramethyl ester
008660-00022 | Vertagreen Crabgrass Preventer | Dimethyl tetrachloroterephthalate
008660-00033 | Vertagreen Professional Use with Dacthal | Dimethyl tetrachloroterephthalate
008660-00062 | Garden Weed Preventer (contains Dacthal) | Dimethyl tetrachloroterephthalate
008660-00098 | Turf Pro Dacthal 5G | Dimethyl tetrachloroterephthalate
008660-00100 | Turf Pro Dacthal 5G Plus | Dimethyl tetrachloroterephthalate
008660-00189 | Holiday Crabgrass Preventer Pre-Emergence | Dimethyl tetrachloroterephthalate
009779 TX-94-0014 | Terranil 6L | Tetrachloroisophthalonitrile
010163 MT-00-0002 | Supracide 25W | O,O-Dimethyl phosphorodithioate, S-ester with 4-(mercaptomethyl)-2-
010163 OR-94-0052 | Metasystox-R Spray Concentrate | S-(2-(Ethylsulfinyl)ethyl) O,O-dimethyl phosphorothioate
010163 OR-94-0054 | Metasystox-R Spray Concentrate | S-(2-(Ethylsulfinyl)ethyl) O,O-dimethyl phosphorothioate
010163 OR-97-0013 | Savey Ovicide/Miticide 50-WP | trans-5-(4-Chlorophenyl)-N-cyclohexyl-4-methyl-2-oxo-3-thiazolidinecarboxamide
010163 WA-95-0005 | Metasystox-R Spray Concentrate | S-(2-(Ethylsulfinyl)ethyl) O,O-dimethyl phosphorothioate
010163 WA-97-0020 | Savey Ovicide/Miticide 50-WP | trans-5-(4-Chlorophenyl)-N-cyclohexyl-4-methyl-2-oxo-3-thiazolidinecarboxamide
010163 WA-99-0030 | Supracide 25W | O,O-Dimethyl phosphorodithioate, S-ester with 4-(mercaptomethyl)-2-
010707 ID-98-0001 | Magnacide H Herbicide | 2-Propenal
010707 NE-90-0002 | Magnacide H Herbicide | 2-Propenal
010707 WA-94-0039 | Magnacide H Herbicide | 2-Propenal
019713-00307 | Pearson's Kleen-Gro | Dimethyl tetrachloroterephthalate
033753-00024 | Myacide GDA | Glutaraldehyde
045017-00033 | Slime-Trol DPD-865 | Bis(trichloromethyl) sulfone
|  | Alkyl* dimethyl benzyl ammonium chloride *(50%C14, 40%C12, 10%C16)
050534-00004 | Daconil 2787 W75 | Tetrachloroisophthalonitrile
050534-00023 | Bravo W-75 Agricultural Fungicide | Tetrachloroisophthalonitrile
050534-00029 | Ole 75% Fungicide | Tetrachloroisophthalonitrile
050534-00117 | Tuffcide 960S | Tetrachloroisophthalonitrile
050534-00218 | Tuffcide Ultrex ADG | Tetrachloroisophthalonitrile
050534-00224 | Tuffcide Xtra | Tetrachloroisophthalonitrile
051036-00080 | PCNB-M 10-3G | O-Ethyl S,S-dipropyl phosphorodithioate
|  | Pentachloronitrobenzene
051036-00090 | Ethion 8 EC | O,O,O',O'-Tetraethyl S,S'-methylene bis(phosphorodithioate)
059639 TX-98-0005 | Orthene 75 S Soluble Powder | O,S-Dimethyl acetylphosphoramidothioate
070856 PA-97-0002 | Du Pont Benlate SP Fungicide | Methyl 1-(butylcarbamoyl)-2-benzimidazolecarbamate

Unless a request is withdrawn by the registrant within 180 days (unless indicated otherwise) of publication of this notice, orders will be issued canceling all of these registrations. Users of these pesticides or anyone else desiring the retention of a registration should contact the applicable registrant directly during the indicated comment period.

The following Table 2 includes the names and addresses of record for all registrants of the products in Table 1, in sequence by EPA company number:

Table 2—Registrants Requesting Voluntary Cancellation¹
EPA Company no. | Company Name and Address
000070 | Value Gardens Supply, LLC, Box 585, St. Joseph, MO 64502.
000239 | The Scotts Co., D/b/a The Ortho Group, Box 1749, Columbus, OH 43216.
000241 | BASF Corp., Box 13528, Research Triangle Park, NC 27709.
000264 | Aventis Cropscience USA LP, 2 T.W. Alexander Drive, Box 12014, Research Triangle Park, NC 27709.
000279 | FMC Corp.Agricultural Products Group, 1735 Market St, Philadelphia, PA 19103.
000432 | Aventis Environmental Science USA LP, 95 Chestnut Ridge Rd., Montvale, NJ 07645.
000538 | The Scotts Co., 14111 Scottslawn Rd, Marysville, OH 43041.
000541 | Ecolab Inc., Agent For: Puritan Services, Inc., 370 N. Wabasha Street, St. Paul, MN 55102.
000655 | Prentiss Inc., C.B. 2000, Floral Park, NY 11001.
002792 | Decco, Cerexagri, Inc., 1713 S. California Ave, Monrovia, CA 91016.
004822 | S.C. Johnson & Son Inc., 1525 Howe Street, Racine, WI 53403.
005481 | AMVAC Chemical Corp., Attn: Jon C. Wood, 4695 Macarthur Ct., Suite 1250, Newport Beach, CA 92660.
007401 | Brazos Associates, Inc., Agent For: Voluntary Purchasing Group Inc., 2001 Diamond Ridge Drive, Carrollton, TX 75010.
008329 | Clarke Mosquito Control Products Inc., 159 N. Garden Ave, Roselle, IL 60172.
008660 | Pursell Industries, Inc., 1500 Urban Center Parkway, Suite 520, Birmingham, AL 35242.
009779 | Agriliance, LLC, Box 64089, St Paul, MN 55164.
010163 | Gowan Co., Box 5569, Yuma, AZ 85366.
010707 | Baker Petrolite Corp., Box 5050, Sugarland, TX 77487.
019713 | Drexel Chemical Co, 1700 Channel Ave., Box 13327, Memphis, TN 38113.
033753 | Steptoe & Johnson, LLP, Agent For: BASF Microcheck Limited, 1330 Connecticut Ave., NW, Washington, DC 20036.
045017 | Hercules Inc. (Attn: Kevin Manning), Pulp & Paper Division., 4636 Somerton Rd, Trevose, PA 19053.
050534 | GB Biosciences Corp., 410 Swing Rd., Box 18300, Greensboro, NC 27419.
051036 | Micro-Flo Co. LLC, Box 772099, Memphis, TN 38117.
059639 | Valent U.S.A. Corp., 1333 N. California Blvd, Ste 600, Walnut Creek, CA 94596.
070856 | American Mushroom Institute, 1 Massachusetts Ave, NW, #800, Washington, DC 20001.
¹ There is a 30-day comment period on registrations for EPA company numbers 000070, 000279, 007401 and 051036.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before September 3, 2002. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: February 11, 2002.
Richard D. Schmitt,
Acting Director, Information Resources Services Division, Office of Pesticide Programs.

[FR Doc. 02-5318 Filed 3-5-02; 8:45 am]

BILLING CODE 6560-50-S